DEPARTMENT OF THE INTERIOR

National Park Service

[[NPS-WASO-NRNHL-DTS#-36358; PPWOCRADI0, PCU00RP14.R50000]

National Register of Historic Places; Notification of Pending Nominations and Related Actions

AGENCY: National Park Service, Interior.

ACTION: Notice.

SUMMARY: The National Park Service is soliciting electronic comments on the significance of properties nominated before August 5, 2023, for listing or related actions in the National Register of Historic Places.

DATES: Comments should be submitted electronically by September 1, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 5, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ARKANSAS

Ashley County

Crossett, Edward C., Youth Center, 300 North Dr. Martin Luther King Jr. Dr., Crossett, SG100009337

Dallas County

Fordyce Overpass, East 4th St. over the Fordyce and Princeton RR, Fordyce, SG100009338

Jefferson County

Redfield Commercial Historic District, 300 and 301 Sheridan Rd., Redfield, SG100009339

Miller County

Williams-Arnold-Staley House, 1005 Pecan St., Texarcana, SG100009342

Ouachita County

Ouachita County Training School, 740 Ouachita Rd. 589, Bearden, SG100009343

Poinsett County

St. Anthony's Catholic Church Historic District, 407 Kings Hwy. Weiner, SG100009344

Pulaski County

Georgetown Apartments, 18 Nottingham Rd. Little Rock, SG100009345

NEW YORK

Dutchess County

Webutuck Agricultural Valley Historic District, Leedsville, Amenia Union, South Amenia, and Kent Rds. in NY; Amenia Union and Knibloe, Hill Rds. in CT, Amenia vicinity, SG100009322

Erie County

Delaware, Lackawanna, and Western (DL&W) Train Shed, 15 Main St., Buffalo, SG100009321

Ulster County

Payne, Colonel Oliver Hazard, Estate (Boundary Increase), NY 9W, Esopus, BC100009323

OHIO

Cuyahoga County

Cleveland State University-University Tower, 1860 East 22nd St., Cleveland, SG100009325

Mahoning County

Schulte-United Building-G.C. Murphy's Building, (Downtown Youngstown MRA), 27 West Federal St., Youngstown, MP100009324

VIRGIN ISLANDS

St. Thomas District

Charlotte Amalie Historic District (Boundary Increase), 61-62 Kronprinsdsens Gade, Charlotte Amalie, BC100009346

WISCONSIN

Dane County

Hammond Farmstead, 3859 Vilas Rd., Cottage Grove, SG100009329

Nominations submitted by Federal Preservation Officers:

The State Historic Preservation Officer reviewed the following nominations and responded to the Federal Preservation Officer within 45 days of receipt of the nominations and supports listing the properties in the National Register of Historic Places.

COLORADO

Saguache County

Baca Land Grant No. 4-Baca Ranch Rural Historic Landscape, Cty. Rd. T, Crestone, SG100009333

VIRGINIA

Arlington County

Pentagon, The (Boundary Increase), Washington Blvd. (VA 27), Richmond Hwy. (VA 110), Shirley Hwy. (I 395), Arlington, BC100009350

Pentagon, The (Additional Documentation)

Washington Blvd. (VA 27), Richmond Hwy. (VA 110), Shirley Hwy. (I 395), Arlington, AD89000932

Authority: Section 60.13 of 36 CFR part 60

Dated: August 9, 2023.
Sherry A. Frear,
Chief, National Register of Historic Places/National Historic Landmarks Program.

[FR Doc. 2023-17702 Filed 8-16-23; 8:45 am]

BILLING CODE 4312-52-P